DEPARTMENT OF HOMELAND SECURITY

Federal Emergency Management Agency

44 CFR Part 67

[Docket No. FEMA-B-7760]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before April 29, 2008.

ADDRESSES: The corresponding preliminary Flood Insurance Rate Map (FIRM) for the proposed BFEs for each community are available for inspection at the community's map repository. The respective addresses are listed in the table below.

You may submit comments, identified by Docket No. FEMA-B-7760, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151, or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location** | * Elevation in feet (NGVD) + Elevation in feet (NAVD) # Depth in feet above ground: Existing | * Elevation in feet (NGVD) + Elevation in feet (NAVD) # Depth in feet above ground: Modified
Unincorporated Areas of Sutter County, California
California | Unincorporated Areas of Sutter County | East Side Canal | Downstream source of the East Side Canal | *38 | *40
|  |  | 1500 feet downstream of Catlett Road | *39 | *40
California | Unincorporated Areas of Sutter County | King Slough | Confluence with East Side Canal | *39 | *40
|  |  | 1600 feet upstream of the confluence of North King Slough | *39 | *40
California | Unincorporated Areas of Sutter County | North King Slough | Confluence with King Slough | *39 | *40
|  |  | 3200 feet upstream of the confluence with King Slough | *39 | *40
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Sutter County
Maps are available for inspection at Sutter County Administrators Office, 1160 Civic Center Boulevard, Yuba City, CA 95993.

Flooding source(s) | Location of referenced elevation** | * Elevation in feet (NGVD) + Elevation in feet (NAVD) # Depth in feet above ground: Effective | * Elevation in feet (NGVD) + Elevation in feet (NAVD) # Depth in feet above ground: Modified | Communities affected
Clatsop County, Oregon, and Incorporated Areas
Columbia River | Approximately at Warrenton-Astoria Alt Highway south of Astoria Regional Airport | +9 | +12 | Unincorporated Areas of Clatsop County, City of Warrenton.
| Approximately 600 feet upstream of SE Anchor Road, West of Burlington Northern railroad | +9 | +12
Lewis & Clark River | Approximately ½ mile downstream of confluence with Heckard Creek, east of Lewis & Clark River | +9 | +12 | Unincorporated Areas of Clatsop County.
| Approximately at confluence with Heckard Creek, east of Lewis & Clark River | +9 | +13
Youngs River | Approximately 500 feet south of confluence with Battle Creek Slough | +7 | +12 | Unincorporated Areas of Clatsop County.
| Approximately at intersection of Wireless Road & Hwy 101 Business | +9 | +12
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Warrenton
Maps are available for inspection at 225 South Main Street, Warrenton, OR 97146.
Unincorporated Areas of Clatsop County
Maps are available for inspection at 800 Exchange Street, Astoria, OR 97103.
Perry County, Pennsylvania, and Incorporated Areas
Juniata River | Approximately 8,820 feet downstream of State Highway 17 (Sunbury Street) | None | +402 | Township of Tuscarora.
| Approximately 5,420 feet upstream of State Highway 17 (Sunbury Street) | None | +408
Little Buffalo Creek | Approximately 5,200 feet upstream of State Route 4010 | None | +428 | Township of Juniata.
| Approximately 5,340 feet upstream of State Route 4010 | None | +428
Losh Run | Approximately 410 feet downstream of Conrail Railroad | None | +369 | Township of Miller.
| Approximately 930 feet upstream of Conrail Railroad | None | +369
Losh Run | Approximately 495 feet downstream of Conrail Railroad | None | +369 | Township of Wheatfield.
| Approximately 880 feet upstream of Conrail Railroad | None | +369
Raccoon Creek | Approximately 30 feet downstream of Local Route 50024 | None | +405 | Township of Tuscarora.
| Approximately 1,150 feet upstream of Local Route 50024 | None | +405
Sugar Run | Approximately 605 feet downstream of Hill Road (T-432) | None | +404 | Township of Tuscarora.
| Approximately 330 feet upstream of Hill Road (T-432) | None | +404
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Township of Juniata
Maps are available for inspection at 16 Milford Rd, Newport, PA 17074.
Township of Miller
Maps are available for inspection at 55410 Limekiln Lane, Duncannon, PA 17020.
Township of Tuscarora
Maps are available for inspection at 72 Cementery Rd, Millerstown, PA 17062.
Township of Wheatfield
Maps are available for inspection at Rt. 274, New Bloomfield Road, New Bloomfield, PA 17068.
Hanover County, Virginia, and Incorporated Areas
Beaverdam Creek | Approximately 384 feet downstream of Old State Route 156 | *92 | *91 | Unincorporated Areas of Hanover County.
| Approximately 6,450 feet upstream of the Woodbridge Road | *152 | *151
Bull Run | Approximately 1,260 feet upstream of the confluence with North Anna River | *74 | *75 | Unincorporated Areas of Hanover County.
| Approximately 1,344 feet upstream of the confluence with North Anna River | *74 | *75
Crump Creek | At approximately 2,800 feet downstream of River Road | None | *39 | Unincorporated Areas of Hanover County.
| Approximately at New Britton Road | None | *191
Lickinghole Creek | Approximately 643 feet upstream from the confluence with Stony Run | None | *126 | Unincorporated Areas of Hanover County.
| Approximately at Design Road | None | *220
Little River | Approximately at State Route 688 (Doswell Road) | None | *95 | Unincorporated Areas of Hanover County.
| Approximately 7,000 feet upstream from the confluence with Locust Creek | None | *218
Mechumps Creek | Approximately 3,258 feet upstream of Route 301 | *51 | *50 | Town of Ashland, Unincorporated Areas of Hanover County.
| Approximately at Route 1 | None | *211
North Anna River | Approximately 3.4 miles upstream of Route 1 | None | *104 | Unincorporated Areas of Hanover County.
| Approximately 3,015 feet upstream from Greek Bay Road | None | *201
Pamunkey River | Approximately 860 feet downstream of the confluence with Whitting Swamp | None | *11 | Unincorporated Areas of Hanover County.
| Approximately at the confluence with North Anna Creek and South Anna Creek | None | *60
South Anna Creek | Approximately at State Route 54 | None | *110 | Unincorporated Areas of Hanover County.
| Approximately 10,750 feet upstream of the confluence with Turkey Creek | None | *214
Stony Run | Approximately 50 feet upstream of Route 682 | *132 | *131 | Town of Ashland, Unincorporated Areas of Hanover County.
| Approximately at Elmont Road | None | *220
Totopotomoy River | Approximately 2,000 feet downstream of the River Road | None | *28 | Unincorporated Areas of Hanover County.
| Approximately at Sliding Hill Road | None | *173
Tributary to Beaverdam Creek | Approximately 580 feet upstream of the confluence with Beaverdam Creek | None | *140 | Unincorporated Areas of Hanover County.
| Approximately 1,474 feet upstream of the confluence with Beaverdam Creek | None | *140
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Ashland
Maps are available for inspection at 101 Thompson Street, Ashland, VA 23005.
Unincorporated Areas of Hanover County
Maps are available for inspection at Department of Public Works, 7497 County Complex Road, Government Administration Building H, Hanover, VA 23069.

(Catalog of Federal Domestic Assistance No. 97.022, “Flood Insurance.”)

Dated: January 22, 2008.
David I. Maurstad,
Federal Insurance Administrator of the National Flood Insurance Program, Department of Homeland Security, Federal Emergency Management Agency.

[FR Doc. E8-1650 Filed 1-29-08; 8:45 am]

BILLING CODE 9110-12-P